DEPARTMENT OF JUSTICE

Drug Enforcement Administration

21 CFR Part 1308

[DEA # 225]

Schedule of Controlled Substances: Proposed Rule: Rescheduling of Buprenorphine From Schedule V to Schedule III

AGENCY: Drug Enforcement Administration (DEA), Justice.

ACTION: Proposed rule; extension of comment period.

SUMMARY: The DEA is extending the comment period and time to request a hearing on the Federal Register Notice of proposed rulemaking entitled “Schedule of Controlled Substances: Proposed Rule: Rescheduling of Buprenorphine From Schedule V to Schedule III” published on March 21, 2002 (67 FR 13114).

DATES: The period for public comment that was to close on April 22, 2002, will be extended to May 22, 2002.

ADDRESSES: Comments should be submitted to the Administrator, Drug Enforcement Administration, Washington, DC 20537, Attn.: DEA Federal Register Representative (CCR).

FOR FURTHER INFORMATION CONTACT: Frank L. Sapienza, Chief, Drug and Chemical Evaluation Section, Drug Enforcement Administration, Washington, DC 20537, Telephone: (202) 307-7183.

SUPPLEMENTARY INFORMATION: The DEA published a notice of proposed rulemaking (67 FR 13114) to reschedule buprenorphine from Schedule V to Schedule III of the Controlled Substances Act (CSA). The proposed rescheduling action is based on a scientific and medical evaluation and recommendation by the Department of Health and Human Services and an evaluation of this and other information by DEA. On April 12, 2002, DEA received a request for a sixty day extension of the period in which to comment and request a hearing. The requestor indicated that the additional time is necessary to obtain and evaluate the nearly one hundred scientific articles cited by DEA in support of its scheduling proposal. Upon consideration of this request, a thirty day extension of the time to comment and request a hearing is granted. This allows sufficient time for interested persons to evaluate and consider all relevant information and respond accordingly. Therefore, the comment period and time to request a hearing is extended to May 22, 2002. Comments must be received by the DEA on or before this date.

Dated: April 18, 2002.
Asa Hutchinson,
Administrator.

[FR Doc. 02-10044 Filed 4-19-02; 3:03 pm]

BILLING CODE 4410-09-P